DEPARTMENT OF THE TREASURY

Bureau of Alcohol, Tobacco and Firearms

27 CFR Part 47

[T.D. ATF—484]

RIN 1512-AC86

Delegation of Authority

AGENCY: Bureau of Alcohol, Tobacco and Firearms (ATF), Treasury.

ACTION: Treasury decision, final rule.

SUMMARY: This final rule places all ATF authorities contained in its Importation of Arms, Ammunition and Implements of War regulations with the “appropriate ATF officer.” Consequently, this final rule removes the definitions of, and references to, specific officers subordinate to the Director. This final rule also requires that persons file documents required by these regulations with the “appropriate ATF officer” or in accordance with the instructions on the ATF form. Concurrently with this Treasury Decision, ATF is issuing ATF Order 1130.34, which will be made available as specified in this rule. Through this order, the Director delegates all of the authorities to the appropriate ATF officers and specifies the ATF officers with whom applications, notices, and other reports, which are not ATF forms, are filed.

EFFECTIVE DATE: This rule is effective October 21, 2002.

FOR FURTHER INFORMATION CONTACT: Robert Ruhf, Regulations Division, Bureau of Alcohol, Tobacco and Firearms, 650 Massachusetts Avenue NW., Washington, DC 20226 (telephone 202-927-8210 or e-mail alctob@atfhq.atf.treas.gov).

SUPPLEMENTARY INFORMATION:

Background

Pursuant to Treasury Order 120-01 (formerly 221), dated June 6, 1972, the Secretary of the Treasury delegated to the Director of the Bureau of Alcohol, Tobacco and Firearms (ATF), the authority to enforce, among other laws, the provisions of chapter 52 of the Internal Revenue Code of 1986 (IRC). The Director has subsequently redelegated certain of these authorities to appropriate subordinate officers by way of various means, including by regulation, ATF delegation orders, regional directives, or similar delegation documents. As a result, to ascertain what particular officer is authorized to perform a particular function under such provisions, each of these various delegation instruments must be consulted. Similarly, each time a delegation of authority is revoked or redelegated, each of the delegation documents must be reviewed and amended as necessary.

ATF has determined that this multiplicity of delegation instruments complicates and hinders the task of determining which ATF officer is authorized to perform a particular function. ATF also believes these multiple delegation instruments exacerbate the administrative burden associated with maintaining up-to-date delegations, resulting in an undue delay in reflecting current authorities.

Accordingly, this final rule rescinds all authorities of the Director in Title 27, Code of Federal Regulations, Part 47, Importation of Arms, Ammunition and Implements of War, that were previously delegated and places those authorities with the “appropriate ATF officer.” Also, all of the authorities of the Director that were not previously delegated are placed with the “appropriate ATF officer.” Along with this final rule, ATF is publishing ATF Order 1130.34, Delegation of the Director's Authorities in 27 CFR Part 47, Importation of Arms, Ammunition and Implements of War, which delegates certain of these authorities to the appropriate organizational level. The effect of these changes is to consolidate the Director's delegations of authority for part 47 into one delegation instrument. This action both simplifies the process for determining what ATF officer is authorized to perform a particular function and facilitates the updating of delegations in the future. As a result, delegations of authority will be reflected in a more timely and user-friendly manner.

This final rule also eliminates all references in the regulations that identify the ATF officer with whom an ATF form is filed. This is because ATF forms will indicate the officer with whom they must be filed. Similarly, this final rule also amends part 47 to provide that the submission of documents other than ATF forms (such as letterhead applications, notices and reports) must be filed with the “appropriate ATF officer” identified in ATF Order 1130.34. These changes will facilitate the identification of the officer with whom forms and other required submissions are filed.

In addition, this final rule makes the following conforming changes in 27 CFR part 47:

• In Subpart D—Administrative Provisions, section 47.41 is amended to provide that the instructions for an ATF form identify the ATF officer with whom it must be filed.

• In Subpart F—Miscellaneous Provisions, section 45.58 is added to recognize the authority of the Director to delegate regulatory authorities in part 47 and to identify ATF Order 1130.34 as the instrument making such delegations.

ATF has made or will make similar changes in delegations of authority to all other parts of Title 27 of the Code of Federal Regulations through separate rulemakings.

Regulatory Flexibility Act

Because no notice of proposed rulemaking is required for this rule, the provisions of the Regulatory Flexibility Act (5 U.S.C. 601 et seq.) do not apply. A copy of this final rule was submitted to the Chief Counsel for Advocacy of the Small Business Administration in accordance with 26 U.S.C. 7805(f). No comments were received.

Executive Order 12866

It has been determined that this rule is not a significant regulatory action because it will not: (1) Have an annual effect on the economy of $100 million or more or adversely affect in a material way the economy, a sector of the economy, productivity, competition, jobs, the environment, public health or safety, or State, local or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in Executive Order 12866.

Administrative Procedure Act

Because this final rule merely makes technical amendments and conforming changes to improve the clarity of the regulations, it is unnecessary to issue this final rule with notice and public procedure under 5 U.S.C. 553(b). Similarly it is unnecessary to subject this final rule to the effective date limitation of 5 U.S.C. 553(d).

Drafting Information

The principal author of this document is Robert Ruhf, Regulations Division, Bureau of Alcohol, Tobacco and Firearms.

List of Subjects in 27 CFR Part 47

Administrative practice and procedure, Arms and munitions, Imports, Penalties, Reporting and recordkeeping requirements, Seizures and forfeitures.

Authority and Issuance

Title 27, Code of Federal Regulations is amended as follows:

PART 47—IMPORTATION OF ARMS, AMMUNITION AND IMPLEMENTS OF WAR

Paragraph 1. The authority citation for part 47 continues to read as follows:

Authority: 22 U.S.C. 2778.

Par. 2. Amend § 47.11 by removing the definitions of “ATF officer” and “Regional director (compliance)” and adding the definition of “Appropriate ATF officer” to read as follows:

§ 47.11 Meaning of Terms.

* * * * *

Appropriate ATF officer. An officer or employee of the Bureau of Alcohol, Tobacco and Firearms (ATF) specified by ATF Order 1130.34, Delegation of the Director's Authorities in 27 CFR Part 47, Importation of Arms, Ammunition and Implements of War.

* * * * *

Par. 3. Section 47.31 is revised to read as follows:

§ 47.31 Registration requirement.

Persons engaged in the business, in the United States, of importing articles enumerated on the U.S. Munitions Import List must register by making an application on ATF Form 4587.

Par. 4. Revise paragraph (a) and the second sentence of paragraph (c) of § 47.32 to read as follows:

§ 47.32 Application for registration and refund of fee.

(a) Application for registration must be filed on ATF Form 4587 and must be accompanied by the registration fee at the rate prescribed in this section. The appropriate ATF officer will approve the application and return the original to the applicant.

* * * * *

(c) * * * A request for a refund must be submitted to the appropriate ATF officer at the Bureau of Alcohol, Tobacco and Firearms, Washington, DC 20226, prior to the beginning of any year for which a refund is claimed.

* * * * *

§§ 47.33; 47.42; 47.43, 47.44; 47.45; 47.51; and 47.52 [Amended]

Par. 5. Remove the words “Director” or “Director's” each place they appear and adding, in substitution, the words “appropriate ATF officer” or “appropriate ATF officer's”, respectively, in the following places:

a. Section 47.33;

b. Section 47.42(a)(2)(i);

c. Section 47.43(c);

d. Section 47.44;

e. The second sentence of § 47.51; and

f. The introductory text of paragraph (b) and the last two sentences of paragraph (f) of § 47.52.

Par. 6. Revise the first and second sentences of § 47.34(b) to read as follows:

§ 47.34 Maintenance of records by persons required to register as importers of Import List articles.

* * * * *

(b) Registrants under this part engaged in importing articles on the U.S. Munitions Import List subject to the permit procedures of subpart E of this part must maintain for a period of 6 years records bearing on such articles imported, including records concerning their acquisition and disposition, including Forms 6 and 6A. The appropriate ATF officer may prescribe a longer or shorter period in individual cases as such officer deems necessary. * * *

* * * * *

Par. 7. Amend § 47.35 by removing the word “Director” and adding, in substitution, the words “appropriate ATF officer” from the first sentence of paragraph (a), and adding a sentence at the end of paragraph (a) and revising paragraph (b) to read as follows:

§ 47.35 Forms prescribed.

(a) * * * The form will be filed in accordance with the instructions for the form.

(b) Forms may be requested from the ATF Distribution Center, P.O. Box 5950, Springfield, Virginia 22150-5950, or by accessing the ATF Web site http://www.atf.treas.gov/.

§ 47.41 [Amended]

Par. 8. Amend § 47.41(a) and (b) by removing the phrase “issued by the Director”.

§ 47.42 [Amended]

Par. 9. Amend the first sentence of the introductory text of § 47.42(a)(1) by removing the commas and phrase ”, in triplicate, with the Director”.

Par. 10. Amend the first sentence of the introductory text of § 47.45(a) by removing the phrase “from the Director” and revise § 47.45(a)(1) to read as follows:

§ 47.45 Importation.

(a) * * *

(1) In obtaining the release from Customs custody of an article imported pursuant to a permit, the permit holder will prepare and file Form 6A according to its instructions.

* * * * *

§ 47.51 [Amended]

Par . 11. Amend the third sentence of § 47.51 by removing the phrase “to the Director”.

Par. 12. Revise the second sentence of § 47.52(f) to read as follows:

§ 47.52 Import restrictions applicable to certain countries.

* * * * *

(f) * * * The certification statement will be prepared in letter form, executed under the penalties of perjury, and should be submitted with the application for an import permit. * * *

Par. 12. Add a new section to Subpart F—Miscellaneous Provisions to read as follows:

§ 45.58 Delegations of the Director.

The regulatory authorities of the Director contained in this part are delegated to appropriate ATF officers. These ATF officers are specified in ATF O 1130.34, Delegation of the Director's Authorities in 27 CFR Part 47. ATF delegation orders, such as ATF O 1130.34, are available to any interested party by mailing a request to the ATF Distribution Center, PO Box 5950, Springfield, VA 22150-5950, or by accessing the ATF Web site http://www.atf.treas.gov/.

Signed: August 26, 2002.
Bradley A. Buckles,
Director.
Approved: September 17, 2002.
Timothy E. Skud,
Deputy Assistant Secretary, (Regulatory, Tariff and Trade Enforcement).

[FR Doc. 02-26680 Filed 10-18-02; 8:45 am]

BILLING CODE 4810-31-P